DEPARTMENT OF THE INTERIOR

Fish and Wildlife Service

Comprehensive Conservation Plan and Environmental Assessment for Moosehorn National Wildlife Refuge, Washington County, ME

AGENCY: Fish and Wildlife Service, Interior.

ACTION: Notice: Intent to prepare a Comprehensive Conservation Plan and Environmental Assessment.

SUMMARY: The U.S. Fish and Wildlife Service (Service) is preparing a Comprehensive Conservation Plan (CCP) and Environmental Assessment (EA) for Moosehorn National Wildlife Refuge (NWR). This notice advises the public that the Service intends to gather information necessary for preparing the CCP and EA pursuant to the National Wildlife Refuge System Administration Act of 1966, as amended by the National Wildlife Refuge System Improvement Act of 1997, and the National Environmental Policy Act of 1969. The Service is furnishing this notice in compliance with Service planning policy, to (1) advise other Federal and State agencies and the public of our intention to conduct detailed planning on this refuge; and, (2) obtain suggestions and information on the scope of issues to include in the environmental document.

The Service will involve the public through open houses, informational and technical meetings, and written comments. Special mailings, newspaper articles, Web sites, and announcements will provide information about opportunities for public involvement in the planning process.

DATES: We are planning to begin public scoping meetings in March 2007. We will announce their locations, dates, and times at least 2 weeks in advance, in special mailings and local newspaper notices, on our Web site, and through personal contacts.

ADDRESSES: Moosehorn NWR, 103 Headquarters Road, Suite 1, Baring, ME 04694, at 207-454-7161 (telephone); 207-454-2550 (FAX); fw5rw_mhnwr@fws.gov (e-mail); http://www.fws.gov/northeast/moosehorn/ (Web site).

FOR FURTHER INFORMATION, CONTACT: Nancy McGarigal, Refuge Planner, U.S. Fish and Wildlife Service, 300 Westgate Center Drive, Hadley, MA 01035; 413-253-8562 (telephone); 413-253-8468 (FAX); e-mail northeastplanning@fws.gov.

SUPPLEMENTARY INFORMATION: Under the National Wildlife Refuge System Administration Act of 1966, as amended by the National Wildlife Refuge System Improvement Act of 1997 (16 U.S.C. 668dd-668ee), the Service is to manage all lands in the National Wildlife Refuge System (NWRS) in accordance with an approved CCP. The plan guides management decisions and identifies refuge goals, management objectives, and strategies for achieving refuge purposes over a 15-year period.

The planning process will cover many elements, including wildlife and habitat management, visitor and recreational activities, wilderness area management, cultural resource protection, and facilities and infrastructure. Compatibility determinations will be completed for all applicable refuge uses. We will also conduct a wilderness review on refuge fee lands not currently designated as wilderness and a wild and scenic rivers evaluation to determine whether any areas on the refuge qualify for those Federal designations.

Public input into the planning process is essential. The comments we receive will help identify key issues and refine our goals and objectives for managing refuge resources and visitors. Additional opportunities for public participation will arise throughout the planning process, which we expect to complete by September 2008. We are presently summarizing refuge data and collecting other resource information to provide us a scientific basis for our resource decisions. We will prepare the EA in accordance with the Council on Environmental Quality procedures for implementing the National Environmental Policy Act of 1969 (42 U.S.C. 4321-4370d).

The 28,885-acre Moosehorn NWR, established in 1937, is one of the oldest refuges in the NWRS. Its purposes are to conserve and protect fish and wildlife resources, including endangered and threatened species, and to protect its wetlands and wilderness resources. The refuge headquarters is located in the town of Baring, Maine. The refuge's two divisions include the 20,131-acre Baring Division, which borders the St. Croix River and Canada, and the 8,754-acre Edmunds Division, located along Cobscook Bay. Within the existing refuge boundary, 7,462 acres (30 percent) are designated part of the National Wilderness Preservation System.

Land cover on the refuge includes approximately 15 percent in wetlands and 85 percent in uplands. Generally, refuge lands are characterized by rolling hills, large rock outcrops, scattered boulders, second-growth northern hardwood-conifer forest, and some pockets of pure spruce-fir. Numerous streams, beaver flowages, bogs, marshes, and scrub-shrub and forested wetlands are imbedded within the forested landscape.

We estimate that 54,000 refuge visitors annually engage in hunting, fishing, wildlife observation and photography, and/or interpretation. Over 65 miles of trails and roads closed to vehicular traffic provide access for these activities on refuge lands. Special events, environmental education and interpretive programs and self-guided interpretive trails, observation platforms, and photography blinds enhance visitor experiences.

Dated: November 9, 2006.
Richard O. Bennett,
Acting Regional Director, U.S. Fish and Wildlife Service, Hadley, Massachusetts.

[FR Doc. E6-22285 Filed 12-27-06; 8:45 am]

BILLING CODE 4310-55-P